DEPARTMENT OF THE INTERIOR

National Park Service

Minor Boundary Revision at Biscayne National Park

AGENCY: National Park Service, Interior.

ACTION: Announcement of park boundary revision.

SUMMARY: Notice is given that the boundary of the Biscayne National Park has been revised pursuant to the Acts as specified below, to encompass lands depicted on Drawing 169/80,001, Segment 104, Biscayne National Park, revised February 14, 2005, prepared by the National Park Service. The revision to the boundary includes tract 104-16, as depicted on the map.

FOR FURTHER INFORMATION CONTACT: Superintendent, Biscayne National Park, 9700 S.W. 328th Street, Homestead, Florida 33033.

SUPPLEMENTARY INFORMATION: The Act of October 18, 1968 (82 Stat. 1188) authorized the establishment of Biscayne National Monument which was designated as a national park by Pub. L. 96-287 on June 28, 1980 (94 Stat. 599). Section 7(c) of the Land and Water Conservation Fund Act, as amended by the Act of June 10, 1977 (Pub. L. 95-42, 91 Stat. 210), and the Act of March 10, 1980 (Pub. L. 103-333, 110 Stat. 4194) further authorized the Secretary of Interior to make minor revisions in the boundaries whenever the Secretary determines that it is necessary for the preservation, protection, interpretation or management of an area.

The map is on file and available for inspection in the Land Resources Program Center, Southeast Regional Office, 100 Alabama Street, SW., Atlanta, GA 30303, and in the Offices of the National Park Service, Department of the Interior, Washington, DC 20013-7127.

Dated: March 23, 2005.
Patricia A. Hooks,
Regional Director, Southeast Region.

[FR Doc. 05-12534 Filed 6-23-05; 8:45 am]

BILLING CODE 4310-70-P